DEPARTMENT OF ENERGY

Federal Energy Regulatory Commission

Notice

March 15, 2005.

The following notice of meeting is published pursuant to section 3(a) of the government in the Sunshine Act (Pub. L. 94-409), 5 U.S.C. 552b:

Agency Holding Meeting: Federal Energy Regulatory Commission.

Date and Time: March 22, 2005, 10 a.m.

Place: Room 2C, 888 First Street NE., Washington, DC 20426.

Status: Open.

Matters To Be Considered: Agenda, *Note—Items listed on the agenda may be deleted without further notice.

Contact Person for More Information: Magalie R. Salas, Secretary, telephone (202) 502-8400. For a recorded listing of items stricken from or added to the meeting, call (202) 502-8627.

This is a list of matters to be considered by the Commission. It does not include a listing of all papers relevant to the items on the agenda; however, all public documents may be examined in the Public Reference Room.

884th Meeting March 22, 2005

Regular Meeting, 10 a.m.

Administrative Agenda

A-1.

AD02-1-000, Agency Administrative Matters

A-2.

AD02-7-000, Customer Matters, Realiability, Security and Market Operations

A-3. Compliance of Qualified Facilities With Ownership Requirements Under the Public Utility Regulatory Policies Act of 1978 (PURPA)

Markets, Tariffs, and Rates—Electric

E-1.

ER03-563-047, EL04-102-007, Devon Power LLC, Middletown Power LLC, Norwalk Power LLC and NRG Power Marketing Inc.

E-2.

ER03-563-048, EL04-102-008, Devon Power LLC, Middletown Power LLC, Norwalk Power LLC and NRG Power Marketing Inc.

E-3.

EL05-52-000, ER03-1272-003, EL05-22-000, Entergy Services, Inc.

E-4.

OMITTED

E-5.

ER04-691-023, Midwest Independent Transmission System Operator, Inc.

EL04-104-022, Public Utilities With Grandfathered Agreements in the Midwest ISO Region

ER04-960-002, ER04-960-003, Mid-Continent Area Power Pool

E-6.

OMITTED

E-7.

ER98-1643-006, ER98-1643-007, Portland General Electric Company

ER04-1206-000, ER04-1206-001, ER04-1206-002, Oregon Electric Utility Company, Portland General Electric Company and Portland General Term Power Procurement Company

E-8.

ER05-493-000, Saracen Energy LP

ER05-494-000, Saracen Energy Power Advisors LP

ER05-495-000, Saracen Merchant Energy LP

ER05-496-000, K2 Development LLC

E-9.

ER05-487-000, FPL Energy Cowboy Wind, LLC

E-10.

ER05-485-000, Union Electric Company

E-11.

ER05-483-000, Cottonwood Energy Company LP

E-12.

ER05-505-000, PacifiCorp

E-13.

ER05-500-000, New England Power Company

E-14.

ER05-94-000, ER05-94-001, Virginia Electric and Power Company

E-15.

ER05-526-000, Southwest Power Pool, Inc.

E-16.

ER05-522-000, Bluegrass Generation Company, L.L.C.

E-17.

ER05-518-000, Southern Company Services, Inc.

E-18.

ER05-534-000, Eastern Desert Power, LLC

E-19.

ER05-349-000, ER05-349-001 Georgia Energy Cooperative

E-20.

ER05-350-000, ER05-350-001, Mitchell Electric Membership Corporation

E-21.

OMITTED

E-22.

ER05-560-000, Midwest Independent Transmission System Operator, Inc.

E-23.

OMITTED

E-24.

ER05-447-000, ER05-447-001, ER05-447-002, ER05-447-003, Transmission Owners of the Midwest Independent Transmission System Operator, Inc.

E-25.

ER05-453-000, ER05-453-001, Wisconsin River Power Company

E-26.

ER98-4410-000, ER98-4410-001, ER98-4410-002, Entergy Services, Inc.

E-27.

RT01-87-010, Midwest Independent System Transmission Operator, Inc.

E-28.

ER01-2644-006 Colton Power, L.P.

E-29.

OMITTED

E-30.

OMITTED

E-31.

ER98-855-002, ER98-855-003, ER98-855-004, ER98-855-005, ER05-540-000, ER05-556-000, Wisconsin Electric Power Company

E-32.

OMITTED

E-33

ER01-1178-004, ER01-1178-004, Sempra Energy Resources, ER00-3444-003, ER00-3444-004, Sempra Energy Solutions ER05-440-000, ER05-440-001, Sempra Generation

E-34.

ER01-2233-002, ER01-2233-003, GWF Energy LLC

E-35.

ER00-586-002, ER00-586-003, ER00-586-004, ER00-586-005, Madison Gas and Electric Company

E-36.

ER00-2529-002, Dow Pipeline Company

E-37.

OMITTED

E-38.

OMITTED

E-39.

OMITTED

E-40.

ER98-496-012, ER98-2160-010, Duke Energy South Bay, LLC

E-41.

OMITTED

E-42.

RT04-2-010, RT04-2-011, RT04-2-012, ER04-116-011, ER04-116-012, ER04-116-010, ER04-157-012, ISO New England, Inc., Bangor Hydro Electric Company, Central Maine Power Company, NSTAR Electric & Gas Corporation, New England Power Company, Northeast Utilities Service Company, The United Illuminating Company and Vermont Electric Power Company; Bangor Hydro-Electric Company, Central Maine Power Company, NSTAR Electric & Gas Corporation, on behalf of its affiliates: Boston Edison Company, Commonwealth Electric Company, Cambridge Electric Light Company, Canal Canal Electric Company; New England Power Company, Northeast Utilities Service Company on behalf of its operating company affiliates: The Connecticut Light and Power Company, Western Massachusetts Electric Company, Public Service Company of New Hampshire, Holyoke Water Power Company, The United Illuminating Company, Vermont Electric Power Company, Central Vermont Public Service Company and Green Mountain Power Corporation

EL01-39-010, the Consumers of New England v. New England Power Pool

ER04-433-002, ER04-433-004, New England Power Pool

ER04-432-002, ER04-432-004, Bangor Hydro-Electric Company, Central Maine Power Company, Fitchburg Gas and Electric Light Company, Northeast Utilities Service Company (on behalf of The Connecticut Light and Power Company, Western Massachusetts Electric Company, Public Service Company of New Hampshire, Holyoke Power and Electric Light Company and Holyoke Water Power Company), NSTAR Electric and Gas Corporation (on behalf of Boston Edison Company, Cambridge Electric Light Company, and Commonwealth Electric Company), The United Illuminating Company, Unitil Energy Systems, Inc. and Vermont Electric Power Company

ER05-459-000, New England Power Pool

E-43.

ER03-552-010, ER03-984-008, New York Independent System Operator, Inc.

E-44.

ER97-2846-003, ER97-2846-004, Progress Energy, Inc.

ER99-2311-005, Progress Energy Carolina (aka Carolina Power & Light Company)

ER03-1383-002, DeSoto County Generating Co., LLC

ER01-2928-005, Progress Ventures Inc.

ER01-1418-002, Effingham County Power, LLC

ER02-1238-002, MPC Generating, LLC

ER01-1419-002, Rowan County Power, LLC

ER01-1310-003, Walton County Power, LLC

ER03-398-003, Washington County Power, LLC

E-45.

ER96-496-010, ER96-496-011, ER96-496-012, Northeast Utilities Service Company

ER99-14-007, ER99-14-008, ER99-14-009, Select Energy, Inc.

ER02-556-003, ER02-556-004, Select Energy New York, Inc.

ER99-4463-001, ER99-4463-002, ER99-4463-003, Northeast Generation Company

E-46.

ER03-9-002, ER03-9-003, Westar Energy, Inc.

ER98-2157-002, ER98-2157-003, ER98-2157-004, EL05-64-000, Kansas Gas and Electric Company

E-47.

ER95-1528-010, ER95-1528-009, ER95-1528-008, ER95-1528-006,Wisconsin Public Service Corporation

ER96-1088-035, ER96-1088-034, ER96-1088-033, ER96-1088-031, Wisconsin Public Service Corporation, WPS Power Development, Inc., and WPS Energy Services, Inc.

ER05-89-000, ER05-89-001, ER05-89-002, Upper Peninsula Power Company

ER01-2659-004, Combined Locks Energy Center, LLC

ER02-2199-002, WPS Empire State, Inc.

ER03-55-002, WPS Niagara Generation, LLC

ER03-56-002, WPS Syracuse Generation, LLC

ER96-1858-015, ER96-1858-014, Mid-American Power, LLC

ER03-674-002, Quest Energy, L.L.C.

ER99-3420-004, ER99-3420-003, Sunbury Generation, LLC

ER99-1936-003, ER99-1936-002, WPS Canada Generation, Inc. and WPS New England Generation, Inc.

ER01-1114-003, ER01-1114-002, WPS Westwood Generation, LLC

ER97-2758-010, ER97-2758-009, Advantage Energy, Inc.

ER03-54-002, WPS Beaver Falls Generation, LLC

E-48.

OMITTED

E-49.

RM05-6-000, Commission Authorization to Hold Interlocking Directorates

E-50.

EL05-58-000, ConocoPhillips Company and Equilon Enterprises LLC dba Shell Oil Products US v. Los Angeles Department of Water and Power

E-51.

EL05-50-000, Jersey Central Power & Light Company v. Atlantic City Electric Company, Delmarva Power & Light Company, PECO Energy Company and Public Service Electric and Gas Company

E-52.

EL02-121-007, Occidental Chemical Corporation v. PJM Interconnection, L.L.C. and Delmarva Power & Light Company

E-53.

IN03-10-012, Investigation of Anomalous Bidding Behavior and Practices in the Western Markets

E-54.

ER03-1102-003, ER03-1102-004, ER03-1102-006, ER03-1102-007, ER05-14-000, California Independent System Operator Corporation

E-55.

OMITTED

E-56.

EL00-105-007, City of Vernon, California

ER00-2019-007, California Independent System Operator Corporation

E-57.

OMITTED

E-58.

ER04-1176-000, Southern California Edison Company

E-59.

ER03-215-000, Mirant Delta, LLC and Mirant Potrero, LLC

E-60.

ER05-113-000, ER05-125-000, EL02-20-000, Pacific Gas and Electric Company

E-61.

ER04-1110-000, Mirant Zeeland, L.L.C.

E-62.

EL03-47-000, Investigation of Certain Enron-Affiliated QF's

QF87-429-004, Onondaga Cogeneration Limited Partnership

E-63.

ER97-1523-065, ER97-1523-067, OA97-470-060, OA97-470-062, ER97-4234-058, ER97-4234-060, Central Hudson Gas & Electric Corporation

OA96-194-010, Niagara Mohawk Power Corporation

E-64.

ER04-992-000, Renaissance Power, L.L.C.

E-65.

RT01-2-015, ER03-738-003, RT01-2-016, PJM Interconnection, LLC

E-66.

OMITTED

E-67.

OMITTED

E-68.

ER05-270-001, EL05-72-000, Dynergy Midwest Generation, Inc.

E-69.

OMITTED

E-70.

RM01-10-005, Standards of Conduct for Transmission Providers

E-71.

ER04-958-001, New York Independent System Operator, Inc.

E-72.

EL04-74-001, New England Electric Transmission Corporation, New England Hydro Transmission Corporation, and New England Hydro-Transmission Electric Company, Inc.

E-73.

ER03-262-019, New PJM Companies, American Electric Power Service Corporation, Commonwealth Edison Company, Dayton Power and Light Company, Virginia Electric and Power Company and PJM Interconnection, LLC

ER03-263-003, Commonwealth Edison Company

E-74.

ER03-1312-002, ER03-1312-003, ER03-1312-004, ER03-1312-005, Midwest Independent Transmission System Operator, Inc.

E-75.

OMITTED

E-76.

EL00-66-003, Louisiana Public Service Commission and the Council of the City of New Orleans v. Entergy Corporation

ER00-2854-004, Entergy Service, Inc.

EL95-33-005, Louisiana Public Service Commission v. Entergy Services. Inc.

E-77.

ER04-847-001, EC04-110-001, Michigan Electric Transmission Company, LLC

E-78.

EL01-93-010, EL01-93-011, Mirant Americas Energy Marketing, L.P., Mirant New England, LLC, Mirant Kendall, LLC, and Mirant Canal, LLC v. ISO New England Inc.

E-79.

EL00-95-120, San Diego Gas & Electric Co., v. Sellers of Energy and Ancillary Services Into Markets Operated by the California Independent System Operator and the California Power Exchange

EL00-98-107, Investigation of Practices of the California Independent System Operator and the California Power Exchange

E-80.

ER03-363-003, Entergy Services, Inc.

E-81.

ER04-833-002, Southwest Power Pool, Inc.

E-82.

ER04-1068-002, PJM Interconnection, L.L.C., American Electric Power Service Corporation and Dayton Power & Light Company

ER04-1074-001, Allegheny Power, American Electric Power Service Corporation, Commonwealth Edison Company, Dayton Power & Light Company and PJM Interconnection, L.L.C.

ER04-1079-002, Dayton Power and Light Company

E-83.

OMITTED

E-84.

ER04-316-002, ER04-316-003, ER04-316-004, Southern California Edison Company on behalf of Mountainview Power Company, LLC

E-85.

ER03-811-002, Entergy Services, Inc.

E-86.

ER03-762-002, Alliant Energy Corporate Services, Inc.

E-87.

ER03-631-002, ISO New England Inc.

E-88.

RT01-8-000, Connexus Energy

RT01-22-000, Soyland Power Cooperative, Inc.

RT01-24-000, Edison Mission Energy and Midwest Generation, LLC

RT01-32-000, Kandiyohi Cooperative Electric Power Association

RT01-36-000, McDonough Power Cooperative

RT01-51-000, North Central Missouri Electric Cooperative, Inc.

RT01-54-000, Platte-Clay Electric Cooperative, Inc.

RT01-79-000, Mt. Carmel Public Utility Co.

RT01-81-000, Cleco Evangeline LLC

E-89.

EL05-46-000, Entergy Nuclear Operations, Inc., Entergy Nuclear Indian Point 2, LLC, and Entergy Nuclear Indian Point 3, LLC v. Consolidated Edison Company of New York, Inc.

E-90.

ER05-519-000, ER05-520-000, ER05-523-000, Southwest Power Pool, Inc.

E-91.

EL00-95-114, EL00-95—117, EL00-95-098, EL00-95-124, EL00-95-113, San Diego Gas & Electric Company

EL00-98-101, EL00-98-104, EL00-98-086, EL00-98-086, EL00-98-111, Investigation of Practices of California Independent System Operator Corporation & California Power Exchange

E-92.

EL04-112-000, The Governors of Connecticut, Maine, Massachusetts, New Hampshire, Rhode Island and Vermont

ER05-134-002, ISO New England Inc.

E-93.

EC04-90-000, Portland General Electric Company and Oregon Electric Utility Company, LLC

E-94.

EL05-53-000, Southern Company Services, Inc.

E-95.

PA04-10-000, PA04-12-000, Carolina Power and Light Company, Florida Power Corporation, Progress Ventures, Inc., Effingham County Power, LLC, MPC Generating, LLC, Rowan, County Power, LLC, Walton County Power, LLC and Washington County Power

Miscellaneous Agenda

M-1.

RM03-8-002, Quarterly Financial Reporting and Revisions to the Annual Reports

G-1.

RP05-181-000, Northern Natural Gas Company

G-2.

RP05-184-000, Wyoming Interstate Company, Ltd.

G-3.

RP05-183-000, Cheyenne Plains Gas Pipeline Company, L.L.C.

G-4.

RP03-398-012, Northern Natural Gas Company

G-5.

RP04-197-001, RP04-197-002, Dominion Cove Point LNG, LP

G-6.

RP00-9-000, GulfTerra Texas Pipeline, L.P.

G-7.

RP02-153-006, Horizon Pipeline Company, L.L.C.

G-8.

OMITTED

G-9.

OMITTED

G-10.

RP00-477-006, RP00-477-007, RP01-18-005, RP98-99-010, RP03-183-002, Tennessee Gas Pipeline Company

G-11.

OMITTED

G-12.

OMITTED

G-13.

OMITTED

G-14.

RP04-171-002, Portland Natural Gas Transmission System

Energy Projects—Hydro

H-1.

P-2726-012, Idaho Power Company

H-2.

P-11659-003, Gustavus Electric Company

H-3.

P-2634-026, Great Lakes Hydro America, LLC

H-4.

P-803-067, Pacific Gas and Electric Company

H-5.

P-2436-200, P-2447-191, P-2448-196, P-2449-168, P-2450-167, P-2451-162, P-2452-174, P-2453-197, P-2468-172, P-2580-227, P-2599-189, Consumers Energy Company

H-6.

P-12522-001, Green Island Power Authority

H-7.

P-12480-001, Wind River Hydro, LLC

P-12457-001, Eastern Shoshone Tribe of the Wind River Reservation

H-8.

P-2436-180, P-2436-194, P-2447-171, P-2447-175, P-2447-177, P-2447-185, P-2448-176, P-2448-183, P-2448-185, P-2448-193, P-2449-153, P-2449-157, P-2449-159, P-2449-166, P-2450-151, P-2450-155, P-2450-157, P-2450-164, P-2451-149, P-2451-151, P-2451-153, P-2451-160, P-2452-156, P-2452-159, P-2452-161, P-2452-169, P-2453-178, P-2453-183, P-2453-185, P-2453-194, P-2468-153, P-2468-156, P-2468-159, P-2468-168, P-2580-207, P-2580-213, P-2580-215, P-2580-223, P-2599-170, P-2599-175, P-2599-177, P-2599-186, Consumers Energy Company

Energy Projects—Certificates

C-1.

CP04-366-000, Gulf South Pipeline Company, LP

C-2.

CP05-8-000, CP05-9-000, CP05-10-000, Starks Storage L.L.C.

C-3.

CP05-7-000, Natural Gas Pipeline Company of America

C-4.

CP04-13-003, CP04-14-003, CP04-14-004, CP04-15-002, Saltville Gas Storage Company, L.L.C.

C-5.

OMITTED

C-6.

CP04-385-000, Transcontinental Gas Pipe Line Corporation and Crosstex CCNG Transmission, Ltd.

Magalie R. Salas,
Secretary.

The Capitol Connection offers the opportunity for remote listening and viewing of the meeting. It is available for a fee, live over the Internet via C-Band Satellite. Persons interested in receiving the broadcast, or who need information on making arrangements should contact David Reininger or Julia Morelli at the Capitol Connection (703-993-3100) as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-5559 Filed 3-16-05; 4:23 pm]

BILLING CODE 6717-01-M